DEPARTMENT OF HEALTH AND HUMAN SERVICES

Indian Health Service

Office of Clinical and Preventive Services; Division of Oral Health; Dental Preventive Clinical Support Program

Announcement Type: New and Competing Continuation

Funding Announcement Number: HHS-2020-IHS-TDCP-0001

Catalog of Federal Domestic Assistance Number: 93.933

Key Dates

Application Deadline Date: September 21, 2020.

Earliest Anticipated Start Date: September 15, 2020.

I. Funding Opportunity Description

Statutory Authority

The Indian Health Service (IHS), Office of Clinical and Preventive Services, Division of Oral Health (DOH), is accepting applications for grants for the Dental Preventive and Clinical Support Centers Program. This program is authorized under 25 U.S.C. 13, Snyder Act; 42 U.S.C. 2001, Transfer Act; and 25 U.S.C. 1601 et seq., the Indian Health Care Improvement Act (IHCIA). This program is described in the Assistance Listings located at https://beta.sam.gov (formerly known as Catalog of Federal Domestic Assistance) under 93.933.

Background

The primary users of a support center are IHS, Tribal, and urban dental programs and personnel throughout an IHS area or broad geographic region. Most users are not dental patients or Tribes. The primary function of a support center is not the direct provision of clinical care. Well-designed support centers will positively impact and document oral health outcomes for patients, primarily by providing guidance to field programs and addressing the assessed and perceived needs of dental personnel and IHS/Tribal/urban (I/T/U) dental programs.

Proposed programs that focus on one locale or on clinical or preventive care alone, with no concomitant focus on a regional or area support-oriented component for the dental program, although well-intentioned and of potential value, are not responsive to this announcement or to the support center project.

Purpose

The purpose of this IHS grant program is to combine existing resources and infrastructure with IHS Headquarters (HQ) and IHS area resources in order to address the broad challenges and opportunities associated with IHS preventive and clinical dental programs. In accordance with the recently stated priorities of the Secretary of the Department of Health and Human Services (HHS) regarding the need to achieve “higher value” health care services, the dental support centers will address two priority goals: (1) Provide support, guidance, training, and enhancement of I/T/U dental programs within their area; and (2) ensure that the services of the support centers and the I/T/U/dental programs result in measurable improvements in the oral health status of the American Indian/Alaska Native (AI/AN) patients served. In order to address these two goals, a strong, collaborative working relationship with the IHS HQ Division of Oral Health (DOH) and the Area Dental Director or Area Dental Officer should be maintained. In short, support centers will empower the dental programs they serve and impact oral health outcomes through the guidance, training and support services they provide. Improvements to oral health must be documented.

Pre-Conference Grant Requirements

This section is only required if the applicant has included a conference in the proposed scope of work and intends on using funding to plan and conduct a conference or meeting during the project period. For definitions of what constitutes a conference, please see the policy at the link provided below. The awardee is required to comply with the “HHS Policy on Promoting Efficient Spending: Use of Appropriated Funds for Conferences and Meeting Space, Food, Promotional Items, and Printing and Publications,” dated January 23, 2015 (Policy), as applicable to conferences funded by grants and cooperative agreements. The Policy is available at https://www.hhs.gov/grants/contracts/contract-policies-regulations/efficient-spending/index.html?language=es.

The awardee is required to:

Provide a separate detailed budget justification and narrative for each conference anticipated. The cost categories to be addressed are as follows: (1) Contract/Planner, (2) Meeting Space/Venue, (3) Registration website, (4) Audio Visual, (5) Speakers Fees, (6) Non-Federal Attendee Travel, (7) Registration Fees, (8) Other (explain in detail and cost breakdown). For additional questions please contact Dr. Christopher Halliday at (301) 443-4323 or email him at Christopher.Halliday@ihs.gov.

II. Award Information

Funding Instrument

Grant.

Estimated Funds Available

The total funding identified for fiscal year (FY) 2020 is approximately $1,250,000. Individual award amounts for the first budget year are anticipated to be $250,000. The funding available for competing and subsequent continuation awards issued under this announcement is subject to the availability of appropriations and budgetary priorities of the Agency. The IHS is under no obligation to make awards that are selected for funding under this announcement.

Anticipated Number of Awards

Approximately five awards will be issued under this program announcement.

Period of Performance

The period of performance is for five years.

III. Eligibility Information

1. Eligibility

To be eligible for this FY 2020 funding opportunity, an applicant must be defined as one of the following under 25 U.S.C. 1603:

• An Urban Indian organization as defined by 25 U.S.C. 1603(29). A nonprofit corporate body situated in an urban center, governed by an urban Indian controlled board of directors, and providing for the maximum participation of all interested Indian groups and individuals, which body is capable of legally cooperating with other public and private entities for the purpose of performing the activities described in 25 U.S.C. 1653(a). Applicants must provide proof of non-profit status with the application, e.g., 501(c)(3).

• A Tribal organization as defined by 25 U.S.C. 1603(26). The term “tribal organization” has the meaning given the term in section 4 of the Indian Self-Determination and Education Assistance Act (25 U.S.C. 5304): “tribal organization” means the recognized governing body of any Indian tribe; any legally established organization of Indians which is controlled, sanctioned, or chartered by such governing body or which is democratically elected by the adult members of the Indian community to be served by such organization and which includes the maximum participation of Indians in all phases of its activities: Provided That, in any case where a contract is let or grant made to an organization to perform services benefiting more than one Indian tribe, the approval of each such Indian tribe shall be a prerequisite to the letting or making of such contract or grant. Applicant shall submit letters of support and/or tribal resolutions from the tribes to be served.

Note: Please refer to Section IV.2 (Application and Submission Information/Subsection 2, Content and Form of Application Submission) for additional proof of applicant status documents required, such as tribal resolutions, proof of non-profit status, etc.

2. Cost Sharing or Matching

The IHS does not require matching funds or cost sharing for grants or cooperative agreements.

3. Other Requirements

Applications with budget requests that exceed the highest dollar amount outlined under Section II Award Information, Estimated Funds Available, or exceed the Period of Performance outlined under Section II Award Information, Period of Performance will be considered not responsive and will not be reviewed. The Division of Grants Management (DGM) will notify the applicant.

Additional Required Documentation

Tribal Resolution

The DGM must receive an official, signed Tribal resolution prior to issuing a Notice of Award (NoA) to any applicant selected for funding. An Indian Tribe or Tribal organization that is proposing a project affecting another Indian Tribe must include resolutions from all affected Tribes to be served. However, if an official, signed Tribal resolution cannot be submitted with the application prior to the application deadline, a draft Tribal resolution must be submitted with the application by the deadline date in order for the application to be considered complete and eligible for review. The draft Tribal resolution is not in lieu of the required signed resolution, but is acceptable until a signed resolution is received. If an official, signed Tribal resolution is not received by the DGM when funding decisions are made, then a NoA will not be issued to that applicant, and the applicant will not receive IHS funds until it has submitted a signed resolution to the Grants Management Specialist listed in this funding announcement.

Proof of Non-Profit Status

Organizations claiming non-profit status must submit a current copy of the 501(c)(3) Certificate with the application.

IV. Application and Submission Information

1. Obtaining Application Materials

The application package and detailed instructions for this announcement can be found at https://www.Grants.gov.

Please direct questions regarding the application process to Mr. Paul Gettys at (301) 443-2114 or (301) 443-5204.

2. Content and Form Application Submission

The applicant must include the project narrative as an attachment to the application package. Mandatory documents for all applicants include:

• Abstract (one page) summarizing the project.

• Application forms:

1. SF-424, Application for Federal Assistance.

2. SF-424A, Budget Information—Non-Construction Programs.

3. SF-424B, Assurances—Non-Construction Programs.

• Project Narrative (not to exceed 28 pages). See Section IV.2.A Project Narrative for instructions.

1. Background information on the organization.

2. Proposed scope of work, objectives, and activities that provide a description of what the applicant plans to accomplish.

• Budget Justification and Narrative (not to exceed 5 pages). See Section IV.2.B Budget Narrative for instructions.

• Tribal Resolution(s).

• Letters of Support from organization's Board of Directors.

• 501(c)(3) Certificate.

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required in order to receive IDC).

• Organizational Chart (optional).

• Description of geographic region or IHS areas to be served.

• List of individual I/T/U hospital- or clinic-based dental programs to be served must be listed in the application. All programs within the defined area or region that will not be served must be listed also.

• Documentation of current Office of Management and Budget (OMB) Financial Audit (if applicable).

Acceptable forms of documentation include:

1. Email confirmation from Federal Audit Clearinghouse (FAC) that audits were submitted; or

2. Face sheets from audit reports. Applicants can find these on the FAC website: https://harvester.census.gov/facdissem/Main.aspx.

Files illustrating a limited selection of work products such as pamphlets or handouts produced by existing support centers or through similar initiatives can be appended.

Public Policy Requirements

All Federal public policies apply to IHS grants and cooperative agreements with the exception of the Discrimination Policy.

Requirements for Project and Budget Narratives

A. Project Narrative: This narrative should be a separate document that is no longer than 28 pages and must: (1) Have consecutively numbered pages; (2) use black font 12 points or larger; (3) be single-spaced; (4) and be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and not be reviewed. The twenty-eight page limit for the narrative does not include the work plan, standard forms, Tribal resolutions, budget, budget justifications and/or narratives, and/or other appendix items.

There are three parts to the narrative: Part 1—Program Information; Part 2—Program Planning and Evaluation; and Part 3—Program Report. See below for additional details about what must be included in the narrative.

The page limits below are for each narrative and budget submitted.

Part 1: Program Information (Limit—7 Pages)

Needs

Describe the needs of both the field programs you propose to serve, and the population cared for by these programs. Upon what information do you base these observations (for example: Needs assessment, a steering committee report, etc.)?

Part 2: Program Planning and Evaluation (Limit—14 Pages)

Section 1: Program Plans

Describe the direction your proposed support center plans to take, including how significant services will be provided to the dental field programs, and how you plan to improve the oral health of American Indians/Alaska Natives (AI/AN) through the guidance and services you offer. State your overarching goals for the five-year funding period. Include a summary of timelines for proposed key services and anticipated measurable improvements to oral health.

Section 2: Program Evaluation

Describe how you will monitor the appropriateness and evaluate the effectiveness of services provided relative to the evolving needs of the field dental programs. Describe how you will evaluate and document improvements to the oral health of AI/ANs associated with the guidance and services you provide to field programs. (Use Logic model provided below as a guide.)

Individual programs should seek to demonstrate the following two broad goals of the Dental Clinical and Preventive Support Center program:

1. Provide support, guidance, training, and enhancement of I/T/U dental programs within the grantee's target area, and;

2. Ensure that the services of the support center and the I/T/U dental programs result in measurable improvements in the oral health status of the AI/AN patients served.

Individual programs may choose their goals and activities from the following overall program logic model below and/or suggest additional activities and goals:

Resources/Inputs

• Funding provided.

• Direction and guidance received from IHS Headquarters program staff.

Activities

• Training: E.g., Dental Health Aide Therapist (DHAT) training, Dental Assistant training and technical assistance (e.g., tooth cleaning courses, radiation safety courses, infection control courses, and sealant courses), and continuing dental education.

• Outreach: E.g., Senior Centers and schools.

• Oral Health Promotion activities: Health Education, Sealants and Fluoride programs.

• Disease Prevention activities: Community-based prevention programs.

• Support and Guidance: Site visits to dental clinics.

Outputs

• Training: E.g., Number of persons trained (dentists, dental hygienists, dental therapists, dental assistants, program staff, number of trainings provided, and number of dental teams trained.

• Outreach: E.g., Number of schools/senior centers/chapter houses visited.

• Oral Health Promotion: E.g., Number of sealants placed and fluoride applications.

• Disease Prevention Activities: E.g., Number of persons reached with prevention information and/or material.

• Support and Guidance: Number of visits to dental clinics.

Outcomes

• Training: How has the quality of oral healthcare improved?

• Outreach: How has the understanding of oral healthcare increased, as a result?

• Oral Health Promotion: Demonstrate improvement in Early Childhood Caries (ECC) incidence.

• Disease Prevention Activities: Demonstrate an increase in dental appointments, visits or access to care.

• Support and Guidance: Demonstrate increased capacity of dental clinics due to support/guidance provided.

Part 3: Program Report (Limit—7 Pages)

Section 1: Major Activities, Programs, and Best Practices Implemented

Describe significant activities with respect to services and products provided over the past 24 months.

Section 2: Major Accomplishments

Describe significant accomplishments with respect to oral health outcomes or other outcomes over the past 24 months.

In addition to your narrative description, use an individualized logic model similar to the one in Part 2 above to demonstrate how you have made use or will make use of the resources to improve or promote the oral health of AI/AN.

If you are proposing the creation of a new support center and have no recent history of relevant accomplishments, please state that.

B. Budget Narrative (Limit—5 Pages)

Provide a budget narrative that explains the amounts requested for each line item of the budget. The budget narrative should specifically describe how each item will support the achievement of proposed objectives. Be very careful about showing how each item in the “Other” category is justified. For subsequent budget years, the narrative should highlight the changes from year 1 or clearly indicate that there are no substantive budget changes during the period of performance. Do NOT use the budget narrative to expand the project narrative.

3. Submission Dates and Times

Applications must be submitted through Grants.gov by 11:59 p.m. Eastern Daylight Time (EDT) on the Application Deadline Date. Any application received after the application deadline will not be accepted for review. Grants.gov will notify the applicant via email if the application is rejected.

If technical challenges arise and assistance is required with the application process, contact Grants.gov Customer Support (see contact information at https://www.grants.gov). If problems persist, contact Mr. Paul Gettys (Paul.Gettys@ihs.gov), Acting Director, DGM, by telephone at (301) 443-2114 or (301) 443-5204. Please be sure to contact Mr. Gettys at least ten days prior to the application deadline. Please do not contact the DGM until you have received a Grants.gov tracking number. In the event you are not able to obtain a tracking number, call the DGM as soon as possible.

IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one grant will be awarded per applicant.

• Only one award will be made to any one IHS area or region. Organizations in the same area are encouraged to share resources in order to produce one collaborative proposal, rather than competing with each other.

6. Electronic Submission Requirements

All applications must be submitted via Grants.gov. Please use the https://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Paul Gettys, Acting Director, DGM. A written waiver request must be sent to GrantsPolicy@ihs.gov with a copy to Paul.Gettys@ihs.gov. The waiver request must: (1) Be documented in writing (emails are acceptable) before submitting an application by some other method, and (2) include clear justification for the need to deviate from the required application submission process.

Once the waiver request has been approved, the applicant will receive a confirmation of approval email containing submission instructions. A copy of the written approval must be included with the application that is submitted to the DGM. Applications that are submitted without a copy of the signed waiver from the Director of the DGM will not be reviewed. The Grants Management Officer of the DGM will notify the applicant via email of this decision. Applications submitted under waiver must be received by the DGM no later than 5:00 p.m., EDT, on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to twenty working days.

• Please follow the instructions on Grants.gov to include additional documentation that may be requested by this funding announcement.

• Applicants must comply with any page limits described in this funding announcement.

• After submitting the application, the applicant will receive an automatic acknowledgment from Grants.gov that contains a Grants.gov tracking number. IHS will not notify the applicant that the application has been received.

Dun and Bradstreet (D&B) Data Universal Numbering System (DUNS)

Applicants and grantee organizations are required to obtain a DUNS number and maintain an active registration in the SAM database. The DUNS number is a unique 9-digit identification number provided by D&B that uniquely identifies each entity. The DUNS number is site specific; therefore, each distinct performance site may be assigned a DUNS number. Obtaining a DUNS number is easy, and there is no charge. To obtain a DUNS number, please access the request service through https://fedgov.dnb.com/webform, or call (866) 705-5711. The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM will need to obtain a DUNS number first and then access the SAM online registration through the SAM home page at https://www.sam.gov/SAM/ (U.S. organizations will also need to provide an Employer Identification Number from the Internal Revenue Service that may take an additional 2-5 weeks to become active). Please see SAM.gov for details on the registration process and timeline. Registration with the SAM is free of charge, but can take several weeks to process. Applicants may register online at https://www.sam.gov/SAM/.

Additional information on implementing the Transparency Act, including the specific requirements for DUNS and SAM, are available on the DGM Grants Management, Policy Topics web page: https://www.ihs.gov/dgm/policytopics/.

V. Application Review Information

Weights assigned to each section are noted in parentheses. The twenty-eight page project narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 possible points. Points are assigned as follows:

1. Evaluation Criteria

A. Introduction and Need for Assistance (10 Points)

Applicants will justify the need for a support center. Applicants will discuss needs in their area or region not likely to be addressed, and oral health outcomes not likely to be attained, if not for the services and guidance of a support center.

Centers will periodically assess the needs of the dental programs served. In order to be responsive to the perceived needs of the dental personnel throughout an area or region, perceived needs must be systematically assessed. Initial and periodic recurring structured needs assessments or other appraisals of perceived needs of the dental personnel to be served are essential. Successful proposals will either document the assessed and perceived needs of the area dental personnel, or outline how area needs will be assessed.

a. Proposed new centers and existing centers without a comprehensive assessment of needs less than three years old will outline a plan for an assessment to be completed within the first nine months of the grant period of performance.

b. Proposed continuing or currently existing centers with a comprehensive assessment of perceived needs less than three years old will summarize the results of that survey, and outline a plan for a future assessment to be completed within the first three years of the five year funding cycle.

Ongoing frequent assessment of perceived needs through feedback from a steering committee or other means is highly recommended.

B. Project Objective(s), Work Plan and Approach (30 Points)

Centers will provide technical assistance and resources for local and area clinic-based and community-based oral health promotion/disease prevention initiatives.

Centers will produce and document positive health outcomes. Consistent with the HHS Secretary's emphasis upon funding tied to value and outcomes, the activities, guidance, and services provided by the support centers to area dental programs will be structured such that they lead to meaningful and measurable improvements in the oral health status of AI/AN patients. Proposals must describe practical and feasible plans that will foster improved health outcomes, and will include specific plans for periodic objective evaluation of the outcomes of these efforts by objective reviewers with no conflict of interest. The dental support centers will improve the oral health of AI/ANs through their services, guidance, and collaboration with the IHS dental program.

Consistent with the HHS Secretary's emphasis upon funding tied to value and outcomes, proposals are strongly encouraged, but not required, to include as part of their strategy an evaluation of the oral health outcomes of IHS dental program practices and initiatives from recent years. Proposals which include such evaluation will enjoy a competitive advantage. This assessment of outcomes could include any of several measures of value obtained for services delivered, including actual patient outcomes. Examples of patient outcomes include but are not limited to measureable improvements to oral health or an assessment of the need for additional restorative care within an intermediate time frame following the initial provision of care.

Centers will send an appropriate representative or representatives to national support centers project meetings convened by IHS HQ DOH. Such meetings will be convened periodically, approximately once every three years, as deemed necessary by IHS HQ DOH. The DOH will communicate closely with all centers about the perceived need for any meeting. All centers are expected to reserve sufficient funds to send a representative or representatives to these meetings.

Centers will promote the coordination of research, demonstration projects, and studies relating to the causes, diagnosis, treatment, control, and prevention of oral disease. This may be addressed through the collection, analysis, and dissemination of data or other methodology deemed appropriate by the IHS HQ DOH. This may also be addressed through support given to field programs engaged in demonstration projects.

Centers are encouraged to collaborate with IHS HQ DOH on national initiatives such as efforts to reduce Early Childhood Caries, promoting and facilitating the annual Basic Screening Surveys (BSS), promotion of the goals of the Government Performance and Results Act (GPRA) and achieving annual GPRA targets, or other national initiatives.

Centers will share information and work products proactively with other areas and other support centers. Large quantities of work products need not be provided free of charge, but examples of work products will be shared widely.

Centers are encouraged to provide technical assistance and resources for local and area clinical programs.

Centers are encouraged to communicate frequently with their Area Dental Officer (ADO), in order to coordinate activities and initiatives closely. Centers are encouraged to amplify impact and increase effectiveness through detailed communication and coordinated efforts with the ADO.

Centers are encouraged to provide technical assistance and resources for continuing education opportunities, including but not limited to, annual area-wide meetings for area dental personnel.

Centers are encouraged to address oral health status on a local level, area-wide level, or regional basis. Interventions must include an examination process assessing outcomes in addition to process (that is, an assessment of actual prevalence of disease over the course of the intervention, in addition to counts or assessments of activities or services and products provided to clientele). Such evaluation does not require original data, if appropriate other data such as, for example, BSS data or other data as available.

C. Program Evaluation (30 Points)

Centers will evaluate their ongoing efforts and progress towards goals and objectives in an objective manner, utilizing reviewers without conflicts of interest.

Centers will assess and document changes to selected oral health outcomes over time.

Centers will adhere to an annual reporting cycle, providing three quarterly reports and one annual report at the end of the fourth quarter to the project officer. Quarterly reports from the support centers must describe: (1) A listing of Dental Support Center goals and objectives that they have been focused upon during the quarter being reported upon, along with a summary of activities and progress toward meeting those priorities of the quarter, and any accomplishments; (2) a description in narrative form how the support center activities and progress link with a reportable oral health outcome, and a review of the evaluation plan for the goals and objectives; and, (3) a description of any trends or challenges that the support center has identified in meeting the goals. The narrative should describe any trends or challenges that have been identified through interactions with the field programs, and any identified emergent challenges should be discussed in terms of potential strategies to address them: (4) A description of additional facts or findings that will assist the Project Officer in understanding the support center's operation over the previous three months, and into the immediate future; (5) a description of at least one activity or accomplishment that the support center Director would like to highlight nationally; and (6) a description of any resources that the support center has developed and would be willing to share for the benefit of the mission of the Division of Oral Health.

Annual reports from the support centers must describe: (1) Services and support provided to the dental program; (2) the methods used to influence oral health; (3) details of the evaluative methodology; and (4) progress towards your program's Outputs and Outcomes, for example, increased oral health status or details of at least two specific outcomes supported by data, based on activities performed by the Dental Support Center. Funding for subsequent budget periods will be contingent upon an objective annual evaluation of these four topic areas by the IHS Division of Oral Health program official.

D. Organizational Capabilities, Key Personnel and Qualifications (10 Points)

Centers will document organizational capabilities, and how these capabilities will be used to address program goals and objectives. Centers will list key personnel, and describe their qualifications. If a key position is not currently occupied, a description of key desired qualifications of the individual to be recruited will suffice.

E. Categorical Budget and Budget Justification (20 Points)

Centers will provide a detailed proposed budget for the initial year of operation.

Centers will justify all line items or categories of proposed expenditures within their proposed budgets by providing a line item budget justification and narrative relating to the attainment of specific goals and objectives.

Multi-Year Project Requirements

Applications must include a brief project narrative and budget (one additional page per year) addressing the developmental plans for each additional year of the project. This attachment will not count as part of the project narrative or the budget narrative.

Additional documents can be uploaded as Appendix Items in Grants.gov

• Work plan, logic model and/or time line for proposed objectives.

• Position descriptions for key staff.

• Resumes of key staff that reflect current duties.

• Consultant or contractor proposed scope of work and letter of commitment (if applicable).

• Current Indirect Cost Rate Agreement (see Section VI.3, Indirect Costs).

• Organizational chart.

• Map of area identifying project location(s).

• Additional documents to support narrative (i.e. data tables, key news articles, etc.).

2. Review and Selection

Each application will be prescreened for eligibility and completeness as outlined in the funding announcement. Applications that meet the eligibility criteria shall be reviewed for merit by the Objective Review Committee (ORC) based on evaluation criteria. Incomplete applications and applications that are not responsive to the administrative thresholds will not be referred to the ORC and will not be funded. The applicant will be notified of this determination. Applicants must address all program requirements and provide all required documentation.

3. Notifications of Disposition

All applicants will receive an Executive Summary Statement from the IHS Division of Oral Health within 30 days of the conclusion of the ORC outlining the strengths and weaknesses of their application. The summary statement will be sent to the Authorizing Official identified on the face page (SF-424) of the application.

A. Award Notices for Funded Applications

The Notice of Award (NoA) is the authorizing document through which funds are dispersed to the approved entities and reflects the amount of Federal funds awarded, the purpose of the grant, the terms and conditions of the award, the effective date of the award, and the budget/project period. Each entity approved for funding must have a user account in GrantSolutions in order to retrieve the NoA. Please see the Agency Contacts list in Section VII for the systems contact information.

B. Approved But Unfunded Applications

Approved applications not funded due to lack of available funds will be held for one year. If funding becomes available during the course of the year, the application may be reconsidered.

Note: Any correspondence other than the official NoA executed by an IHS grants management official announcing to the project director that an award has been made to his or her organization is not an authorization to implement the program on behalf of the IHS.

VI. Award Administration Information

1. Administrative Requirements

Grants are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

2. Indirect Costs

This section applies to all recipients that request reimbursement of indirect costs (IDC) in their application budget. In accordance with HHS Grants Policy Statement, Part II-27, IHS requires applicants to obtain a current IDC rate agreement prior to receiving an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Available funds are inclusive of direct and appropriate indirect costs. Approved indirect funds are awarded as part of the award amount, and no additional funds will be provided.

Generally, IDC rates for IHS grantees are negotiated with the Division of Cost Allocation (DCA) https://rates.psc.gov/ or the Department of Interior (Interior Business Center) https://ibc.doi.gov/ICS/tribal. For questions regarding the indirect cost policy, please call the Grants Management Specialist listed under “Agency Contacts” or the main DGM office at (301) 443-5204.

3. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required quarterly, within 30 days after the end of the quarter, with a cumulative annual report due 90 days after the end of the budget period (specific dates will be listed in the NoA Terms and Conditions). These reports must include a brief comparison of actual accomplishments to the goals established for the period, a summary of progress to date or, if applicable, provide sound justification for the lack of progress, and other pertinent information as required. A final report must be submitted within 90 days of expiration of the period of performance.

B. Financial Reports

Federal Financial Report (FFR or SF-425), Cash Transaction Reports are due 30 days after the close of every calendar quarter to the Payment Management Services, HHS at https://pms.psc.gov. The applicant is also requested to upload a copy of the FFR (SF-425) into our grants management system, GrantSolutions. Failure to submit timely reports may result in adverse award actions blocking access to funds.

Grantees are responsible and accountable for accurate information being reported on all required reports: the Progress Reports and Federal Financial Report.

C. Post Conference Grant Reporting

The following requirements were enacted in Section 3003 of the Consolidated Continuing Appropriations Act, 2013, and Section 119 of the Continuing Appropriations Act, 2014; Office of Management and Budget Memorandum M-12-12: All HHS/IHS awards containing grants funds allocated for conferences will be required to complete a mandatory post award report for all conferences. Specifically: The total amount of funds provided in this award/cooperative agreement that were spent for “Conference X”, must be reported in final detailed actual costs within 15 days of the completion of the conference. Cost categories to address should be: (1) Contract/Planner, (2) Meeting Space/Venue, (3) Registration website, (4) Audio Visual, (5) Speakers Fees, (6) Non-Federal Attendee Travel, (7) Registration Fees, (8) Other.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards. IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the period of performance is made up of more than one budget period) and where: (1) the period of performance start date was October 1, 2010 or after, and (2) the primary awardee will have a $25,000 sub-award obligation dollar threshold during any specific reporting period will be required to address the FSRS reporting.

For the full IHS award term implementing this requirement and additional award applicability information, visit the DGM Grants Policy website at https://www.ihs.gov/dgm/policytopics/.

E. Compliance With Executive Order 13166 Implementation of Services Accessibility Provisions for All Grant Application Packages and Funding Opportunity Announcements

Recipients of Federal financial assistance (FFA) from HHS must administer their programs in compliance with Federal civil rights laws that prohibit discrimination on the basis of race, color, national origin, disability, age and, in some circumstances, religion, conscience, and sex. This includes ensuring programs are accessible to persons with limited English proficiency. The HHS Office for Civil Rights provides guidance on complying with civil rights laws enforced by HHS. Please see https://www.hhs.gov/civil-rights/for-providers/provider-obligations/index.html and http://www.hhs.gov/ocr/civilrights/understanding/section1557/index.html.

• Recipients of FFA must ensure that their programs are accessible to persons with limited English proficiency. HHS provides guidance to recipients of FFA on meeting their legal obligation to take reasonable steps to provide meaningful access to their programs by persons with limited English proficiency. Please see https://www.hhs.gov/civil-rights/for-individuals/special-topics/limited-english-proficiency/fact-sheet-guidance/index.html and https://www.lep.gov. For further guidance on providing culturally and linguistically appropriate services, recipients should review the National Standards for Culturally and Linguistically Appropriate Services in Health and Health Care at https://minorityhealth.hhs.gov/omh/browse.aspx?lvl=2&lvlid=53.

• Recipients of FFA also have specific legal obligations for serving qualified individuals with disabilities. Please see http://www.hhs.gov/ocr/civilrights/understanding/disability/index.html.

• HHS funded health and education programs must be administered in an environment free of sexual harassment. Please see https://www.hhs.gov/civil-rights/for-individuals/sex-discrimination/index.html; https://www2.ed.gov/about/offices/list/ocr/docs/shguide.html; and https://www.eeoc.gov/eeoc/publications/fs-sex.cfm.

• Recipients of FFA must also administer their programs in compliance with applicable Federal religious nondiscrimination laws and applicable Federal conscience protection and associated anti-discrimination laws. Collectively, these laws prohibit exclusion, adverse treatment, coercion, or other discrimination against persons or entities on the basis of their consciences, religious beliefs, or moral convictions. Please see https://www.hhs.gov/conscience/conscience-protections/index.html and https://www.hhs.gov/conscience/religious-freedom/index.html.

Please contact the HHS Office for Civil Rights for more information about obligations and prohibitions under Federal civil rights laws at https://www.hhs.gov/ocr/about-us/contact-us/index.html or call 1-800-368-1019 or TDD 1-800-537-7697.

F. Federal Awardee Performance and Integrity Information System (FAPIIS)

The IHS is required to review and consider any information about the applicant that is in the Federal Awardee Performance and Integrity Information System (FAPIIS), at https://www.fapiis.gov, before making any award in excess of the simplified acquisition threshold (currently $150,000) over the period of performance. An applicant may review and comment on any information about itself that a Federal awarding agency previously entered. IHS will consider any comments by the applicant, in addition to other information in FAPIIS in making a judgment about the applicant's integrity, business ethics, and record of performance under Federal awards when completing the review of risk posed by applicants as described in 45 CFR 75.205.

As required by 45 CFR part 75, appendix XII, of the Uniform Guidance, non-Federal entities (NFEs) are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require a non-Federal entity or an applicant for a Federal award to disclose, in a timely manner, in writing to the IHS or pass-through entity all violations of Federal criminal law involving fraud, bribery, or gratuity violations potentially affecting the Federal award.

Submission is required for all applicants and recipients, in writing, to the IHS and to the HHS Office of Inspector General all information related to violations of Federal criminal law involving fraud, bribery, or gratuity violations potentially affecting the Federal award. 45 CFR 75.113.

Disclosures must be sent in writing to: U.S. Department of Health and Human Services, Indian Health Service, Division of Grants Management, ATTN: Mr. Paul Gettys, Acting Director, 5600 Fishers Lane, Mail Stop: 09E70, Rockville, MD 20857 (Include “Mandatory Grant Disclosures” in subject line), Office: (301) 443-5204, Fax: (301) 594-0899, Email: Paul.Gettys@ihs.gov and U.S. Department of Health and Human Services, Office of Inspector General, ATTN: Mandatory Grant Disclosures, Intake Coordinator, 330 Independence Avenue SW, Cohen Building, Room 5527, Washington, DC 20201, URL: https://oig.hhs.gov/fraud/report-fraud/, (Include “Mandatory Grant Disclosures” in subject line), Fax: (202) 205-0604 (Include “Mandatory Grant Disclosures” in subject line) or Email: MandatoryGranteeDisclosures@oig.hhs.gov.

Failure to make required disclosures can result in any of the remedies described in 45 CFR 75.371 Remedies for noncompliance, including suspension or debarment (see 2 CFR parts 180 & 376).

VII. Agency Contacts

1. Questions on the programmatic issues may be directed to: Cheryl Sixkiller, DDS, Indian Health Service, Division of Oral Health, 5600 Fishers Lane, Mail Stop: 08N34A, Rockville, MD 20857, Email: Cheryl.Sixkiller@ihs.gov or Christopher Halliday, DDS, MPH, Indian Health Service, Division of Oral Health, 5600 Fishers Lane, Mail Stop: 08N34A, Rockville, MD 20857, Phone: (301) 443-1106, Email: Christopher.Halliday@ihs.gov.

2. Questions on grants management and fiscal matters may be directed to: Donald Gooding, Grants Management Specialist, 5600 Fishers Lane, Mail Stop: 09E70, Rockville, MD 20857, Phone: (301) 443-2298, Fax: (301) 594-0899, Email: Donald.Gooding@ihs.gov.

3. Questions on systems matters may be directed to: Paul Gettys, Acting Director, DGM, 5600 Fishers Lane, Mail Stop: 09E70, Rockville, MD 20857, Phone: (301) 443-2114; or the DGM main line (301) 443-5204, Fax: (301) 594-0899, Email: Paul.Gettys@ihs.gov.

VIII. Other Information

The Public Health Service strongly encourages all grant, cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Michael D. Weahkee,
RADM, Assistant Surgeon General, U.S. Public Health Service Director, Indian Health Service.

[FR Doc. 2020-13471 Filed 6-22-20; 8:45 am]

BILLING CODE 4165-16-P